DEPARTMENT OF THE INTERIOR

Bureau of Indian Affairs

Intent To Prepare an Environmental Impact Statement for the Proposed Fee-to-Trust Conveyance of Property for the Seminole Tribe of Florida

AGENCY: Bureau of Indian Affairs, Interior.

ACTION: Notice.

SUMMARY: The Bureau of Indian Affairs, in cooperation with the Seminole Tribe of Florida (Tribe), intends to prepare an environmental impact statement for the Tribe's proposed 47± acre trust acquisition and subsequent construction of a mixed-use development in Broward County, Florida. The project site may include, but is not limited to, a variety of proposed land uses such as a hotel, commercial retail uses, fitness and entertainment facilities, and related employee parking. The purposes of the proposed action are to consolidate the Tribe's land holdings surrounding the existing Coconut Creek Casino into one contiguous trust property, to improve the Tribe's economy, and to help Tribal members attain economic self sufficiency. This notice also announces a public scoping meeting to identify potential issues and content for inclusion in the environmental impact statement.

DATES: Written comments on the scope of the environmental impact statement or implementation of the proposal must arrive by September 20, 2010. The public scoping meeting will be held on September 15, 2010, from 6 p.m. local time.

ADDRESSES: You may mail, hand carry, or fax written comments to Franklin Keel, Regional Director, Eastern Regional Office, Bureau of Indian Affairs, 545 Marriott Drive, Suite 700, Nashville, Tennessee 37214, Fax (615) 564-6701. Please see the SUPPLMENTARY INFORMATION section of this notice for directions on submitting comments. The public scoping meeting will be held at: Coral Springs High School Auditorium, 7201 West Sample Road, Coral Springs, FL 33065-2249.

FOR FURTHER INFORMATION CONTACT: Kurt G. Chandler, Bureau of Indian Affairs, (615) 564-6832.

SUPPLEMENTARY INFORMATION: The Tribe has asked the Bureau of Indian Affairs to acquire into trust 47 ± acres of land. The Tribe proposes to convert a portion of this land into a mixed-use development. The proposed trust acquisition lands are immediately adjacent to lands currently held in trust for the benefit of the Tribe. Placing the approximately 47 acres into trust would consolidate the Tribe's land holdings into one contiguous trust property.

In addition to the fee-to-trust action, the proposed action also includes developing a 1000-room hotel, restaurants, retail establishments, entertainment facilities, a spa and health club, and a convention center. The proposed development also includes a parking garage and associated employee parking. Significant issues to be covered during the scoping process may include, but are not limited to, air quality, transportation, surface and groundwater resources, biological resources, cultural resources, socioeconomic conditions, public services, infrastructure, land use, aesthetics, and environmental justice.

Directions for Submitting Comments

Please include your name, return address and the caption, “DEIS Scoping Comments, Seminole Tribe of Florida's Trust Acquisition Project,” on the first page of your written comments.

Public Availability of Comments

Comments, including names and addresses of respondents, will be available for public review at the Tennessee office shown in the ADDRESSES section from 8 a.m. to 4:30 p.m., Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality regulations (40 CFR parts 1500 through 1508) implementing the procedural requirements of the National Environmental Policy Act of 1969, as amended (42 U.S.C. 4371 et seq.), and related Department of the Interior requirements in 43 CFR part 46 and the Department of the Interior Manual (516 DM 2), and is in the exercise of authority delegated to the Assistant Secretary—Indian Affairs by 209 DM 8.1.

Dated: July 20, 2010.
Donald Laverdure,
Deputy Assistant Secretary—Indian Affairs.

[FR Doc. 2010-19193 Filed 8-5-10; 8:45 am]

BILLING CODE 4310-W7-P